Title 3—

The President

Executive Order 13284 of January 23, 2003

Amendment of Executive Orders, and Other Actions, in Connection With the Establishment of the Department of Homeland Security

By the authority vested in me as President by the Constitution and the laws of the United States of America, including the Homeland Security Act of 2002 (Public Law 107-296), and the National Security Act of 1947, as amended (50 U.S.C. 401 et seq.), and in order to reflect responsibilities vested in the Secretary of Homeland Security and take other actions in connection with the establishment of the Department of Homeland Security, it is hereby ordered as follows:

Section 1. Executive Order 13234 of November 9, 2001 (“Presidential Task Force on Citizen Preparedness in the War on Terrorism”), is amended by inserting “the Department of Homeland Security,” after “the Office of Management and Budget,” in section 2(a).

Sec. 2. Executive Order 13231 of October 16, 2001 (“Critical Infrastructure Protection in the Information Age”), is amended by:

(a) inserting “(i) Secretary of Homeland Security;” after “or their designees:” in section 6(a); and

(b) renumbering the subsequent subsections in section 6(a) appropriately.

Sec. 3. Executive Order 13228 of October 8, 2001 (“Establishing the Office of Homeland Security and the Homeland Security Council”), is amended by inserting “the Secretary of Homeland Security,” after “the Secretary of Transportation,” in section 5(b). Further, during the period from January 24, 2003, until March 1, 2003, the Secretary of Homeland Security shall have the responsibility for coordinating the domestic response efforts otherwise assigned to the Assistant to the President for Homeland Security pursuant to section 3(g) of Executive Order 13228.

Sec. 4. Executive Order 13224 of September 23, 2001 (“Blocking Property and Prohibiting Transactions with Persons Who Commit, Threaten to Commit, or Support Terrorism”), as amended, is further amended by:

(a) inserting “, the Secretary of Homeland Security,” after “the Secretary of the Treasury” in sections 1(b) and 1(d) (the first time it appears); and

(b) inserting “, the Secretary of Homeland Security,” after “the Secretary of State” in sections 1(c) and 1(d) (the second time it appears), 5 (wherever it appears), and 7.

Sec. 5. Executive Order 13151 of April 27, 2000 (“Global Disaster Information Network”), is amended by:

(a) inserting “(8) Department of Homeland Security;” after “(7) Department of Energy;” in section 2(a); and

(b) renumbering the subsequent subsections in section 2(a) appropriately.

Sec. 6. Executive Order 13122 of May 25, 1999 (“Interagency Task Force on the Economic Development of the Southwest Border”), is amended by inserting “Secretary of Homeland Security,” after “Secretary of the Treasury,” in section 1(b).

Sec. 7. Executive Order 13048 of June 10, 1997 (“Improving Administrative Management in the Executive Branch”), is amended by:

(a) inserting “15. Department of Homeland Security;” after “14. Department of Veterans Affairs;” in section 1(a); and

(b) renumbering all subsequent subsections in section 1(a) appropriately.

Sec. 8. Executive Order 12992 of March 15, 1996 (“President's Council on Counter-Narcotics”), as amended, is further amended by:

(a) inserting “(n) Secretary of Homeland Security;” after “(m) Secretary of Veterans Affairs;” in section 2; and

(b) relettering all subsequent subsections in section 2 appropriately.

Sec. 9. Executive Order 12881 of November 23, 1993 (“Establishment of the National Science and Technology Council”), is amended by:

(a) inserting “(i) Secretary of Homeland Security;” after “(h) Secretary of the Interior;” in section 2; and

(b) relettering all subsequent subsections in section 2 appropriately.

Sec. 10. Executive Order 12859 of August 16, 1993 (“Establishment of the Domestic Policy Council”), is amended by:

(a) inserting “(o) Secretary of Homeland Security;” after “(n) Secretary of the Treasury;” in section 2; and

(b) relettering all subsequent subsections in section 2 appropriately.

Sec. 11. Executive Order 12590 of March 26, 1987 (“National Drug Policy Board”), is amended by:

(a) inserting “(13) the Secretary of Homeland Security;” after “(12) the Secretary of Education;” in section 1(b); and

(b) renumbering all subsequent subsections in section 1(b) appropriately.

Sec. 12. Executive Order 12260 of December 31, 1980 (“Agreement on Government Procurement”), as amended, is further amended by:

(a) inserting “14. Department of Homeland Security” after “13. Department of Health and Human Services” in the Annex; and

(b) renumbering all subsequent subsections in the Annex appropriately.

Sec. 13. Executive Order 11958 of January 18, 1977 (“Administration of Arms Export Controls”), as amended, is further amended by:

(a) striking “Secretary of the Treasury” wherever it appears in section 1(l)(2) and inserting “Attorney General” in lieu thereof; and

(b) inserting “the Attorney General,” after “the Secretary of the Treasury,” in section 2(a).

Sec. 14. Executive Order 11423 of August 16, 1968 (“Providing for the Performance of Certain Functions Heretofore Performed by the President with Respect to Certain Facilities Constructed and Maintained on the Borders of the United States”), as amended, is further amended by inserting “the Secretary of Homeland Security,” after “the Secretary of Transportation,” in section 1(b).

Sec. 15. Executive Order 10865 of February 20, 1960 (“Safeguarding Classified Information Within Industry”), as amended, is further amended by inserting “the Secretary of Homeland Security,” after “the Secretary of Energy,” in section 1.

Sec. 16. Executive Order 13011 of July 16, 1996 (“Federal Information Technology”), is amended by:

(a) inserting “15. Department of Homeland Security;” after “14. Department of Veterans Affairs;” in section 3(b); and

(b) renumbering all subsequent subsections in section 3(b) appropriately.

Sec. 17. Those elements of the Department of Homeland Security that are supervised by the Department's Under Secretary for Information Analysis and Infrastructure Protection through the Department's Assistant Secretary for Information Analysis, with the exception of those functions that involve no analysis of foreign intelligence information, are designated as elements of the Intelligence Community under section 201(h) of the Homeland Security Act of 2002 and section 3(4) of the National Security Act of 1947, as amended (50 U.S.C. 401a).

Sec. 18. Executive Order 12333 of December 4, 1981 (“United States Intelligence Activities”), is amended in Part 3.4(f) by:

(a) striking “and” at the end of subpart 3.4(f)(6);

(b) striking the period and inserting “; and” at the end of subpart 3.4(f)(7); and

(c) adding a new subpart 3.4(f)(8) to read as follows: “(8) Those elements of the Department of Homeland Security that are supervised by the Department's Under Secretary for Information Analysis and Infrastructure Protection through the Department's Assistant Secretary for Information Analysis, with the exception of those functions that involve no analysis of foreign intelligence information.”

Sec. 19. Functions of Certain Officials in the Department of Homeland Security.

The Secretary of Homeland Security, the Deputy Secretary of Homeland Security, the Under Secretary for Information Analysis and Infrastructure Protection, Department of Homeland Security, and the Assistant Secretary for Information Analysis, Department of Homeland Security, each shall be considered a “Senior Official of the Intelligence Community” for purposes of Executive Order 12333, and all other relevant authorities, and shall:

(a) recognize and give effect to all current clearances for access to classified information held by those who become employees of the Department of Homeland Security by operation of law pursuant to the Homeland Security Act of 2002 or by Presidential appointment;

(b) recognize and give effect to all current clearances for access to classified information held by those in the private sector with whom employees of the Department of Homeland Security may seek to interact in the discharge of their homeland security-related responsibilities;

(c) make all clearance and access determinations pursuant to Executive Order 12968 of August 2, 1995, or any successor Executive Order, as to employees of, and applicants for employment in, the Department of Homeland Security who do not then hold a current clearance for access to classified information; and

(d) ensure all clearance and access determinations for those in the private sector with whom employees of the Department of Homeland Security may seek to interact in the discharge of their homeland security-related responsibilities are made in accordance with Executive Order 12829 of January 6, 1993.

Sec. 20. Pursuant to the provisions of section 1.4 of Executive Order 12958 of April 17, 1995 (“Classified National Security Information”), I hereby authorize the Secretary of Homeland Security to classify information originally as “Top Secret.” Any delegation of this authority shall be in accordance with section 1.4 of that order or any successor Executive Orders.

Sec. 21. This order shall become effective on January 24, 2003.

Sec. 22. This order does not create any right or benefit, substantive or procedural, enforceable at law or equity, against the United States, its departments, agencies, or other entities, its officers or employees, or any other person.

B

THE WHITE HOUSE,

January 23, 2003.

[FR Doc. 03-2069

Filed 1-27-03; 8:45 am]

Billing code 3195-01-P